DEPARTMENT OF HEALTH AND HUMAN SERVICES

Centers for Disease Control and Prevention

[30Day-10-10AE]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Malaria Pre-travel Advice: Knowledge and Practices Among US Healthcare Providers Whose Patients Develop Malaria—New—National Center for Zoonotic, Vector-Borne, and Enteric Diseases (NCZVED), Centers for Disease Control and Prevention (CDC).

Background and Brief Description

In 2007, there were 1505 cases of malaria reported in the U.S. and its territories. Except for one transfusion-related case, all cases in 2007 were imported. Almost all of the imported malaria cases could have been prevented with appropriate malaria prophylactic drug regimens. Achieving appropriate malaria prophylaxis requires knowledge and action by both the traveler and healthcare provider (HCP). There are limited studies on HCP knowledge and practices regarding malaria prophylaxis. We propose an activity to better define the types of HCPs giving pre-travel advice about malaria, their knowledge gaps regarding malaria, and their barriers to appropriate prescription of malaria prophylaxis.

All U.S. travelers with malaria reported in 2010 and their healthcare providers (if one was seen) who provided pre-travel advice will be interviewed by phone. Interviews will take no longer than 15 minutes. Questions to be asked of patients include demographics, knowledge of malaria risks, and use of prophylaxis during their travel. HCPs will be asked about their training, practice type, and knowledge of malaria risk and prevention. Univariate analysis will be done to describe characteristics of HCPs who give inappropriate prescriptions for malaria prophylaxis. Bivariate and multivariate analysis is planned to examine the association between various HCP characteristics and provision of inappropriate (or no) malaria prophylaxis. Findings from this activity will help CDC's malaria branch with the development and targeting of educational materials for HCPs regarding malaria in travelers. Information gathered will also guide content of educational and review articles to be published in journals most often read by target HCPs. The total estimated annual burden hours are 220.

There is no cost to respondents.

Estimated Annualized Burden Hours
Respondents | Number of respondents | Number of responses per respondent | Average burden per response (in hours)
Patients ≥18 | 350 | 1 | 15/60
Parents of patients <18 | 88 | 1 | 15/60
Healthcare providers | 438 | 1 | 15/60

Dated: December 28, 2009.
Marilyn S. Radke,
Reports Clearance Officer, Centers for Disease Control and Prevention.

[FR Doc. E9-31129 Filed 12-31-09; 8:45 am]

BILLING CODE 4163-18-P